DEPARTMENT OF VETERANS AFFAIRS

Veterans Benefits Administration

[OMB Control No. 2900-0381]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before January 4, 2006.

FOR FURTHER INFORMATION OR A COPY OF THE SUBMISSION CONTACT: Denise McLamb, Information Management Service (005E3), Department of Veterans Affairs, 810 Vermont Avenue, NW., Washington, DC 20420, (202) 565-8374 or FAX (202) 565-6590. Please refer to “OMB Control No. 2900-0381.”

Send comments and recommendations concerning any aspect of the information collection to VA's OMB Desk Officer, OMB Human Resources and Housing Branch, New Executive Office Building, Room 10235, Washington, DC 20503 (202) 395-7316. Please refer to “OMB Control No. 2900-0381” in any correspondence.

SUPPLEMENTARY INFORMATION: Title: Notice for Election To Convey and/or Invoice for Transfer of Property, VA Form 26-8903.

OMB Control Number: 2900-0381.

Type of Review: Extension of a currently approved collection.

Abstract: VA Form 26-8903 serves four purposes: Holder's election to convey, invoice for the purchase price of the property, VA's voucher for authorizing payment to the holder, and establishment of VA's property records. The form provides holders, who elected to convey properties to VA, with a convenient and uniform way of notifying VA regarding foreclosed GI home loan.

An agency may not conduct or sponsor, and a person is not required to respond to a collection of information unless it displays a currently valid OMB control number. The Federal Register Notice with a 60-day comment period soliciting comments on this collection of information was published on September 29, 2005, at pages 56965-56966.

Affected Public: Business or Other for-Profit.

Estimated Annual Burden: 4,167.

Estimated Average Burden per Respondent: 10 minutes.

Frequency of Response: On occasion.

Estimated Number of Respondents: 25,000.

Dated: November 22, 2005.
By direction of the Secretary.
Denise McLamb,
Program Analyst, Records Management Service.

[FR Doc. E5-6794 Filed 12-2-05; 8:45 am]

BILLING CODE 8320-01-P